FEDERAL COMMUNICATIONS COMMISSION

47 CFR Parts 2 and 97

[ET Docket No. 02-98 ; FCC 02-136]

Amateur Radio Service Rules

AGENCY: Federal Communications Commission.

ACTION: Proposed rule.

SUMMARY: This document proposes to amend the Commission's Rules to add a new secondary allocation to the 135.7-137.8 kHz band for the amateur service for experimentation in the low frequency (“LF”) region of the spectrum; add a new secondary allocation to the 5250-5400 kHz band for the amateur service to facilitate high frequency (“HF”) amateur service operations; and to upgrade the amateur service allocation from secondary status to primary status and add a primary allocation for the amateur-satellite service in the 2400-2402 MHz band. The proposed changes to the Rules would enhance the ability of the amateur service to conduct technical experiments with LF propagation and antenna design; allow amateurs to communicate at 5250 kHz when propagation conditions do not permit communication at 3500 kHz or 7000 kHz; and provide protected status for the amateur-satellite service now using the 2400-2402 MHz band.

DATES: Written comments are due July 29, 2002, and reply comments are due August 13, 2002.

FOR FURTHER INFORMATION CONTACT: Kathyrn Medley, Office of Engineering and Technology, (202) 418-1211, TTY (202) 418-2989, e-mail: kmedley@fcc.gov.

ADDRESSES: All filings must be addressed to the Commission's Secretary, Office of the Secretary, Federal Communications Commission. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW, Washington, DC 20554.

SUPPLEMENTARY INFORMATION: This is a summary of the Commission's Notice of Proposed Rulemaking, ET Docket 02-98, FCC 02-136, adopted May 2, 2002, and released May 15, 2002. The full text of this document is available for inspection and copying during regular business hours in the FCC Reference Center (Room CY-A257), 445 12th Street, SW., Washington, DC 20554. The complete text of this document also may be purchased from the Commission's copy contractor, Qualex International, 445 12th Street, SW., Room, CY-B402, Washington, DC 20554. The full text may also be downloaded at: www.fcc.gov. Alternative formats are available to persons with disabilities by contacting Brian Millin at (202) 418-7426 or TTY (202) 418-7365.

Pursuant to Sections 1.415 and 1.419 of the Commission's rules, 47 CFR 1.415, 1.419, interested parties may file comments on or before July 29, 2002, and reply comments on or before August 13, 2002. Comments may be filed using the Commission's Electronic Comment Filing System (ECFS) or by filing paper copies. See Electronic Filing of Documents in Rulemaking Proceedings, 63 FR 24121 (1998). Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address.” A sample form and directions will be sent in reply. Parties who choose to file by paper must file an original and four copies of each filing. If more than one docket or rulemaking number appear in the caption of this proceeding, commenters must submit two additional copies for each additional docket or rulemaking number.

Summary of Notice of Proposed Rule Making

1. The Notice of Proposed Rulemaking (“NPRM”) proposes to amend parts 2 and 97 of the Commission's rules to: (1) Add a new secondary allocation to the 135.7-137.8 kHz band for the amateur service for experimentation in the low frequency (“LF”) region of the spectrum; (2) add a new secondary allocation to the 5250-5400 kHz band for the amateur service to facilitate high frequency (“HF”) amateur service operations; and (3) upgrade the amateur service allocation from secondary status to primary status and add a primary allocation for the amateur-satellite service in the 2400-2402 MHz band. These proposed changes to the rules would enhance the ability of the amateur service to conduct technical experiments with LF propagation and antenna design; allow amateurs to communicate at 5250 kHz when propagation conditions do not permit communication in the amateur allocated spectrum at 3500 kHz or 7000 kHz; and provide protected status for the amateur-satellite service now using the 2400-2402 MHz band.

2. An Allocation in the Low Frequency (“LF”) range. The American Radio Relay League filed a Petition for Rulemaking with the Commission requesting a secondary allocation to the amateur service in the LF spectrum range (specifically the 135.7-137.8 kHz and the 160-190 kHz bands). The Commission was persuaded by ARRL's arguments to consider a secondary amateur service allocation in the LF range of the spectrum to serve the public interest because amateur experimentation could lead to a better understanding of communication techniques in this frequency range.

3. Incumbent use of the 135.7-137.8 kHz band is relatively light and thus a secondary amateur service allocation in this band raises few concerns. An analysis of a portion of the UTC database of power line carrier (“PLC”) systems by Commission staff shows that PLC system density is significantly less in the 135.7-137.8 kHz band than in the 160-190 kHz band. Consequently, there should be many areas where PLC systems would not be in close proximity to any future amateur operations. Further, domestic primary services in this band would be minimally affected by an amateur service allocation. The Government Master File (“GMF”) and Commission's databases identify only one Federal Government assignment in the 135.7-137.8 kHz band. The amateur service has extensive experience in operating on a secondary basis with primary status services in frequency bands with long range capabilities and the Commission stated the same should apply here. The NPRM stated that interference would be rare because amateur radio operators have demonstrated their effective use of the “listen-before-transmit” protocol, which also can be utilized with the primary users of this band. Regarding the radio-frequency identification devices uses in the lower adjacent band and the PLC use in-band, the NPRM proposed technical rules that are intended to minimize any impact from these amateur station operations on unlicensed equipment use. The NPRM sought comment on this assessment.

4. While there is no international allocation to the amateur service at 135.7-137.8 kHz in the International Table of Allocations, the NPRM noted that the European Posts and Telecommunications Commission (“CEPT”) has allocated this band to the amateur service on a secondary basis and individual administrations are granting amateur radio operators additional technical flexibility for their LF operations. The Commission also noted that Canada has recently proposed a secondary allocation of the 135.7-137.8 kHz band for the amateur service in Region 2, which may be considered at the 2003 World Radio Conference (“WRC-03”). The NPRM stated that a domestic secondary amateur service allocation in the 135.7-137.8 kHz band would provide a chance to harmonize amateur LF allocations and promote international exploration of a common band. In the absence of an international allocation, however, the NPRM proposed to adopt certain technical limitations on amateur radio operations in this band so that they would not cause interference to primary services outside of the United States. The NPRM requested comment on whether there are any specific spectrum sharing concerns between amateur station operations and domestic or international primary allocation operations in the 135.7-137.8 kHz band.

5. The NPRM proposed to require that amateur stations in the 135.7-137.8 kHz band meet the technical limits suggested by Canada in the WRC-03 preparatory process. As noted in the Canadian proposal, sharing of this spectrum would be facilitated if the amateur station is limited to an EIRP of 1 W and the transmission bandwidth is limited to 100 Hz. Because of possible difficulty in measuring the EIRP of the amateur station in this frequency range, the NPRM also proposed to limit amateur output power in this band to 100 W PEP. It also sought comment on whether these limits on EIRP and PEP are appropriate. No restrictions on antenna size or design for amateur stations were proposed because such restrictions would inhibit experimentation, and interference to other users can be adequately addressed by the proposed power limitations. The NPRM also proposed to limit access to this band to amateur operators holding a General, Advanced, or Amateur Extra Class license, as requested by ARRL, as a way to insure amateur operations would be conducted in a manner that minimizes the interference potential to other users. It was noted that with an allocation of only 2.1 kilohertz of spectrum in this band, amateur radio operations may be limited to propagation experiments, telegraphy and low speed data applications. Nonetheless, this allocation would benefit amateur experimentation of the LF range. Comment was sought on all of these proposals for a secondary amateur service allocation in the 135.7-137.8 kHz band.

6. In declining to propose a secondary amateur service allocation for the 160-190 kHz band, the NPRM observed that while the number of incumbent primary users in this band has decreased over the years, the record and Commission staff analysis shows that significant PLC use continues in this band in many locations. The wider bandwidth in the 160-190 kHz band increases the number of PLC systems potentially impacted. Further, while newer technologies may be implemented where possible, PLC systems are not being replaced or retrofitted with these new technologies in many areas. Therefore, the Commission was concerned about the interference potential that a secondary amateur service allocation would have on PLC systems. The Commission also observed that, unlike the situation with the 135.7-137.8 kHz band, there does not appear to be interest internationally in adding amateur services in the 160-190 kHz band.

7. Amateur radio operations in the 160-190 kHz band under the Commission's part 15 rules would not be affected. Under these rules, amateur operations must meet certain power and antenna length requirements, but they also are allowed to build and operate some equipment of their own design. The NPRM noted that amateurs do have some flexibility to achieve wideband communications and thus, the need to provide a secondary amateur service allocation in the 160-190 kHz band is reduced. Comment was sought on the tentative decision to not provide the allocation in this band that ARRL requested.

8. Finally, the Commission recognized that spectrum in both the 135.7-137.8 kHz and 160-190 kHz bands could be used more efficiently if potential operators knew where other users of the spectrum were located and could avoid them. UTC has maintained a database of PLC locations in order to notify primary Federal Government users of PLC operations. The NPRM requested comment on whether this database provides sufficient information for use by amateur operators and how such access could be provided.

9. An allocation in the 5250-5400 kHz band. The American Radio Relay League filed a Petition for Rulemaking with the Commission requesting a secondary allocation to the amateur service in the 5250-5400 kHz band. ARRL argued that propagation and interference conditions in the 3500 kHz and 7000 kHz bands could hinder effective amateur HF communications. In particular, the nature of the ionosphere prevents communications during certain portions of the day because of increased atmospheric noise levels at certain times on certain frequencies, or decreased ionization allows the transmission to penetrate the ionosphere at other times and frequencies. ARRL's experimentation appears to support its contention that the 5000 kHz frequency range can be effective in supporting communication when the 3500 kHz and 7000 kHz ranges are not. A new allocation in the 5000 kHz frequency range would permit amateur service operations when other bands cannot be used. Therefore, the Commission tentatively concluded that the amateur service would benefit from a secondary allocation in the 5250-5400 kHz band and proposed to establish such an allocation. Comment was sought on this proposal.

10. The NPRM indicates that amateur radio operators should be able to avoid interference to primary operations in this band due to the limited numbers of primary assignments which are authorized for operation in the 5250-5400 kHz band, and their experience in sharing HF frequencies in other bands. The operational protocol of “listen before transmit” employed by amateur radio operators should further minimize interference. Currently this technique is not explicitly required by the Commission's rules and comment was requested on whether it should be explicitly stated in the rules in order to protect the primary operators in the 5250-5400 kHz band. The NPRM proposed to limit the output power of the amateur stations to 1500 W PEP as requested by ARRL. Further, the NPRM invited comments as to whether the 5250-5400 kHz band should be restricted to Amateur radio operators with an Amateur Extra Class license to better ensure compatible sharing with the Federal Government operations, or could the band also be made available to operators with a General or Advanced Class license just as in the 10,100-10,150 kHz band (30 meter band). Comment was invited on whether the power limit and operator license requirement are sufficient to prevent interference to primary users, and whether an EIRP limit would also be appropriate for this frequency band. The NPRM also invited comment on other means that will reduce potential interference.

11. The 5000 kHz Petition does not discuss sub-banding and ARRL's suggested rules would allow all emission types to use the entire band. Section 97.305 of the Commission's rules segregates digital modes from other amateur station emission modes in the 3500 kHz and 7000 kHz bands to protect narrow band emissions like data from wider emissions like single-side band voice. Therefore, the NPRM requested comment on whether sub-banding is necessary and/or appropriate for the 5250 kHz band as well.

12. An allocation in the 2400-2402 MHz band. The American Radio Relay League also filed a Petition for Rulemaking with the Commission requesting primary allocations to the amateur and the amateur-satellite services in the 2400-2402 MHz band. The Commission placed this spectrum into a reserve for future development because existing ISM and unlicensed operations created a spectral environment that would be difficult to share with other operations. Nevertheless, the amateur radio community has succeeded in sharing this spectrum. Further, the amateur radio community has invested time, effort and money in the development of the amateur and amateur satellite services and primary allocations in this band would protect this investment from future allocation requests in the band. Accordingly, the NPRM proposed to upgrade the allocation for the amateur service from secondary status to primary status and to add a primary allocation to the amateur-satellite service in the 2400-2402 MHz band in parts 2 and 97 of the Commission's rules. It was also noted that footnote 5.282 of the International Table of Allocations states that “the amateur-satellite service may operate subject to not causing harmful interference to other services operating in accordance with the Table [of Allocations].” Therefore, amateur-satellite operators would not be exempted from this requirement to protect operations of other services outside of the United States.

13. While primary allocations for the amateur and amateur-satellite services may guard against introducing other incompatible users in the band, this allocation change would not alter the status of amateur and amateur'satellite services use vis-à-vis incumbent uses of the band. Either a primary or secondary allocation in ISM bands must accept interference from, and not hinder the use of, ISM equipment. Similarly, this band is extensively used by unlicensed operations, which have been able to share with amateur radio station use to this point. Because this band is important to unlicensed applications and there is widespread deployment, the removal of such devices would not be feasible. The NPRM requested comment on whether the proposed primary amateur and amateur-satellite service allocations would conflict with unlicensed use of the band.

14. The NPRM merely proposed to change the allocation status of the amateur service operations in the 2400-2402 MHz band. Modification of the service rules or operational requirements of the services in this band is not needed. Comment on this proposal was requested.

Initial Regulatory Flexibility Certification

15. The Regulatory Flexibility Act of 1980, as amended (RFA),¹ requires that an initial regulatory flexibility analysis be prepared for notice and comment rule making proceedings, unless the agency certifies that “the rule will not, if promulgated, have a significant economic impact on a substantial number of small entities.”² The RFA generally defines the term “small entity” as having the same meaning as the terms “small business,” “small organization,” and “small governmental jurisdiction.”³ In addition, the term “small business” has the same meaning as the term “small business concern” under the Small Business Act.⁴ A “small business concern” is one which: (1) Is independently owned and operated; (2) is not dominant in its field of operation; and (3) satisfies any additional criteria established by the Small Business Administration (SBA).⁵

¹ See 5 U.S.C. 603. The RFA, see 5 U.S.C. § 601-612, has been amended by the Small Business Regulatory Enforcement Fairness Act of 1996 (SBREFA), Public Law 104-121, Title II, 110 Stat. 857 (1996).

² 5 U.S.C. 605(b).

³ 5 U.S.C. 601(6).

⁴ 5 U.S.C. 601(3) (incorporating by reference the definition of “small business concern” in the Small Business Act, 15 U.S.C. 632). Pursuant to 5 U.S.C. 601(3), the statutory definition of a small business applies “unless an agency, after consultation with the Office of Advocacy of the Small Business Administration and after opportunity for public comment, establishes one or more definitions of such term which are appropriate to the activities of the agency and publishes such definition(s) in the Federal Register.”

⁵ 15 U.S.C. 632.

16. In this NPRM, the Commission proposed to make available two additional frequency bands on a secondary basis and upgrade the allocation of a third frequency band to the amateur service. The amateur radio service is a voluntary non-commercial communication service comprised of individuals or groups of individuals holding amateur radio licenses issued by the Commission.⁶ These individuals are prohibited from using spectrum allocated to the amateur service for communications for hire or for material compensation, or for communications in which the amateur radio operator has a pecuniary interest.⁷ Therefore, amateur radio operators do not fit any part of the definition of “small entities” described above, and thus are not classified as such.

⁶ See 47 CFR 97.1 and 97.3(a).

⁷ See 47 CFR 97.113(a)(2).

17. In addition, even if the amateur radio licensees were hypothetically considered as “small entities,” the rule changes proposed in this NPRM simply make spectrum available for the amateur radio operations and impose no additional fees, costs, or compliance burdens on an operator. Since the amateur radio service is a voluntary service, it would be up to each individual amateur to purchase or modify equipment to use the new bands. There is no cost associated with the upgrade of the allocation. On the contrary, the amateur radio service receives the positive benefits of access to additional spectrum.

18. Therefore, the Commission certified that the proposals in this NPRM, if adopted, will not have a significant economic impact on a substantial number of small entities. The Commission will send a copy of the NPRM, including a copy of this Initial Regulatory Flexibility Certification, to the Chief Counsel for Advocacy of the SBA.⁸

⁸ 5 U.S.C. 605(b).

List of Subjects

47 CFR Part 2

Radio.

47 CFR Part 97

Radio, Satellites.

Federal Communications Commission.
Marlene H. Dortch,
Secretary.

Proposed Rules

For the reasons discussed in the preamble, the Federal Communications Commission proposes to amend 47 CFR parts 2 and 97 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106, is amended as follows:

a. Revise pages 3, 11, and 51 of the Table.

b. In the list of United States footnotes, add footnote USxxx.

The additions and revisions read as follows:

§ 2.106 Table of Frequency Allocations.

* * * * *

BILLING CODE 6712-01-P

BILLING CODE 6712-01-C

* * * * *

UNITED STATES (US) FOOTNOTES

* * * * *

USxxx In the bands 135.7-137.8 kHz and 5250-5400 kHz, the amateur service is allocated on a secondary basis.

PART 97—AMATEUR RADIO SERVICE

3. The authority citation for part 97 continues to read as follows:

Authority: 48 Stat. 1066, 1082, as amended: 47 U.S.C. 154, 303. Interpret or apply 48 Stat. 1064-1068, 1081-1105, as amended; 47 U.S.C. 151-155, 301-609, unless otherwise noted.

4. Section 97.3 is amended by redesignating paragraphs (b)(4) through (b)(11) as (b)(5) through (b)(12) and by adding a new paragraph (b)(4) to read as follows:

§ 97.3 Definitions.

* * * * *

(b) * * *

(4) LF (low frequency). The frequency range between 30 kHz and 300 kHz.

* * * * *

5. Section 97.301 is amended by revising the tables in paragraphs (b), (c), and (d) to read as follows:

§ 97.301 Authorized frequency bands.

* * * * *

(b) * * *

Wavelength band | ITU—Region 1 | ITU—Region 2 | ITU—Region 3 | Sharing requirements see § 97.303 (Paragraph)
LF | kHz | kHz | kHz
2200m |  | 135.7-137.8 |  | (s).
MF | kHz | kHz | kHz
160 m | 1810-1850 | 1800-2000 | 1800-2000 | (a), (b), (c).
HF | MHz | MHz | MHz
80 m | 3.50-3.75 | 3.50-3.75 | 3.50-3.75 | (a).
75 m | 3.75-3.80 | 3.75-4.00 | 3.75-3.90 | (a).
60 m |  | 5.25-5.40 |  | (t).
40 m | 7.0-7.1 | 7.0-7.3 | 7.0-7.1 | (a).
30 m | 10.10-10.15 | 10.10-10.15 | 10.10-10.15 | (d).
20 m | 14.00-14.35 | 14.00-14.35 | 14.00-14.35
17 m | 18.068-18.168 | 18.068-18.168 | 18.068-18.168
15 m | 21.00-21.45 | 21.00-21.45 | 21.00-21.45
12 m | 24.890-24.99 | 24.89-24.99 | 24.89-24.99
10 m | 28.0-29.7 | 28.0-29.7 | 28.0-29.7

(c) * * *

Wavelength band | ITU—Region 1 | ITU—Region 2 | ITU—Region 3 | Sharing requirements see § 97.303 (Paragraph)
LF | kHz | kHz | kHz
2200 m |  | 135.7-137.8 |  | (s).
MF | kHz | kHz | kHz
160 m | 1810-1850 | 1800-2000 | 1800-2000 | (a), (b), (c).
HF | MHz | MHz | MHz
80 m | 3.525-3.750 | 3.525-3.750 | 3.525-3.750 | (a).
75 m | 3.775-3.800 | 3.775-4.000 | 3.775-3.900 | (a).
60 m |  | 5.250-5.400 |  | (t).
40 m | 7.025-7.100 | 7.035-7.300 | 7.025-7.100 | (a).
30 m | 10.10-10.15 | 10.10-10.15 | 10.10-10.15 | (d).
20 m | 14.025-14.150 | 14.025-14.150 | 14.025-14.150
Do | 14.175-14.350 | 14.175-14.350 | 14.175-14.350
17 m | 18.068-18.168 | 18.068-18.168 | 18.068-18.168
15 m | 21.025-21.200 | 21.025-21.200 | 21.025-21.200
Do | 21.225-21.450 | 21.225-21.450 | 21.225-21.450
12 m | 24.89-24.99 | 24.89-24.99 | 24.89-24.99
10 m | 28.0-29.7 | 28.0-29.7 | 28.0-29.7

(d) * * *

Wavelength band | ITU—Region 1 | ITU—Region 2 | ITU—Region 3 | Sharing requirements see § 97.303 (Paragraph)
LF | kHz | kHz | kHz |
2200 m |  | 135.7-137.8 |  | (s).
MF | kHz | kHz | kHz
160 m | 1810-1850 | 1800-2000 | 1800-2000 | (a), (b), (c).
HF | MHz | MHz | MHz
80 m | 3.525-3.750 | 3.525-3.750 | 3.525-3.750 | (a).
75 m |  | 3.85-4.00 | 3.85-3.90 | (a).
60 m |  | 5.25-5.40 |  | (t).
40 m | 7.025-7.100 | 7.025-7.150 | 7.025-7.100 | (a).
Do |  | 7.225-7.300 |  | (a).
30 m | 10.10-10.15 | 10.10-10.15 | 10.10-10.15 | (d).
20 m | 14.025-14.150 | 14.025-14.150 | 14.025-14.150
Do | 14.225-14.350 | 14.225-14.350 | 14.225-14.350
17 m | 18.068-18.168 | 18.068-18.168 | 18.068-18.168
15 m | 21.025-21.200 | 21.025-21.200 | 21.025-21.200
Do | 21.30-21.45 | 21.30-21.45 | 21.30-21.45
12 m | 24.89-24.99 | 24.89-24.99 | 24.89-24.99
10 m | 28.0-29.7 | 28.0-29.7 | 28.0-29.7

* * * * *

6. Section 97.303 is amended by revising paragraphs (j)(2)(iii) and (j)(2)(iv), and by adding paragraphs (s) and (t) to read as follows:

§ 97.303 Frequency sharing requirements.

* * * * *

(j) * * *

(2) * * *

(iii) The 2390-2417 MHz segment is allocated to the amateur service on a primary basis.

(iv) The 2417-2450 MHz segment is allocated to the amateur service on a co-secondary basis with the Federal Government radiolocation service. Amateur stations operating within the 2400-2450 MHz segment must accept harmful interference that may be caused by the proper operation of industrial, scientific, and medical devices operating within the band.

* * * * *

(s) No amateur station transmitting in the 135.7-137.8 kHz segment shall cause harmful interference to any Federal fixed or maritime stations; any non-Federal Government fixed station; or, in the polar regions above 60 degrees North latitude, any aeronautical fixed station; nor is any amateur station protected from interference due to the operation of any such station.

(t) No amateur station transmitting in the 5.250-5.400 MHz band shall cause harmful interference to stations authorized in the mobile and fixed services; nor is any amateur station protected from interference due to the operation of any such station.

7. Section 97.305 is amended by adding an LF entry; and two HF entries in numerical order to the table in paragraph (c) to read as follows:

§ 97.305 Authorized emission types.

* * * * *

(c) * * *

Wavelength band | Frequencies | Emission types authorized | Standards see § 97.307(f), paragraph:
LF:
2200 m | Entire band | RTTY, data | (14).
* * * * * * *
HF:
60 m | Entire band | RTTY, data | (3), (9).
60 m | Entire band | Phone, image | (1), (2).
* * * * * * *

8. Section 97.307 is amended by adding new paragraph (f)(14) to read as follows:

§ 97.307 Emission standards.

* * * * *

(f) * * *

(14) The bandwidth of the transmitted signal shall not exceed 100 hertz.

9. Section 97.313 is amended by adding paragraph (i) to read as follows:

§ 97.313 Transmitter power standards.

* * * * *

(i) No station may transmit with a transmitter power exceeding 100 W PEP in the 135.7-137.8 kHz segment, and the total Effective Isotropic Radiated Power (EIRP) shall not exceed 1 watt.

[FR Doc. 02-14774 Filed 6-13-02; 8:45 am]

BILLING CODE 6712-01-P